DEPARTMENT OF ENERGY

Federal Energy Regulatory Commission

Combined Notice of Filings

Take notice that the Commission has received the following Natural Gas and Oil Pipeline Rate and Refund Report filings:

Filings Instituting Proceedings

Docket Numbers: CP24-3-000.

Applicants: Columbia Gas Transmission, LLC, Columbia Gulf Transmission, LLC.

Description: Columbia Gas Transmission, LLC et. al. submits Abbreviated Application for Amendment to Order Issuing Certificate and Authorizing Abandonment.

Filed Date: 10/10/23.

Accession Number: 20231010-5338.

Comment Date: 5 p.m. ET 10/31/23.

Docket Numbers: RP24-43-000.

Applicants: Southern LNG Company, L.L.C.

Description: 4(d) Rate Filing: SLNG Electric Power Cost Adjustment—2023 to be effective 12/1/2023.

Filed Date: 10/18/23.

Accession Number: 20231018-5035.

Comment Date: 5 p.m. ET 10/30/23.

Docket Numbers: RP24-44-000.

Applicants: Centra Pipelines Minnesota Inc.

Description: 4(d) Rate Filing: Updated Index of Shippers Dec 2023 to be effective 12/1/2023.

Filed Date: 10/18/23.

Accession Number: 20231018-5074.

Comment Date: 5 p.m. ET 10/30/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-1104-001.

Applicants: Trunkline Gas Company, LLC.

Description: Tariff Amendment: Revised Fuel Filing RP23-1104 to be effective 11/1/2023.

Filed Date: 10/18/23.

Accession Number: 20231018-5058.

Comment Date: 5 p.m. ET 10/30/23.

Any person desiring to protest in any the above proceedings must file in accordance with Rule 211 of the Commission's Regulations (18 CFR 385.211) on or before 5 p.m. Eastern time on the specified comment date. The filings are accessible in the Commission's eLibrary system (https://elibrary.ferc.gov/idmws/search/fercgensearch.asp) by querying the docket number. eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202)502-6595 or OPP@ferc.gov.

Dated: October 18, 2023.
Debbie-Anne A. Reese,
Deputy Secretary.

[FR Doc. 2023-23462 Filed 10-23-23; 8:45 am]

BILLING CODE 6717-01-P